DEPARTMENT OF DEFENSE

Office of the Secretary

Defense Science Board

AGENCY: Department of Defense.

ACTION: Notice of Advisory Committee meeting date change.

SUMMARY: On Thursday, July 8, 2004 (69 FR 41231), the Department of Defense announced closed meetings of the Defense Science Board (DSB) Task Force on Future Strategic Strike Forces. The meeting originally scheduled for December 15-16, 2004, has been moved to December 14-16, 2004. The meeting will be held at Strategic Analysis Inc., 3601 Wilson Boulevard, Suite 500, Arlington, VA.

Dated: November 29, 2004.
Jeannette Owings-Ballard,
OSD Federal Register Liaison Officer, Department of Defense.

[FR Doc. 04-28261 Filed 12-27-04; 8:45 am]

BILLING CODE 5001-06-M